DEPARTMENT OF TRANSPORTATION

Federal Highway Administration

Notice of Final Federal Agency Action on Proposed Bridge Replacement in Massachusetts

AGENCY: Federal Highway Administration (FHWA), DOT.

ACTION: Notice of Limitations on Claims for Judicial Review of Action by FHWA.

SUMMARY: This notice announces action taken by the FHWA that is final within the meaning of 23 U.S.C. 39(l)(1). The action relates to the proposed Fore River Bridge (State Route 3A over the Weymouth Fore River) replacement project in Quincy and Weymouth, Massachusetts. The action grants an approval for the project.

DATES: By this notice, the FHWA is advising the public of final agency actions subject to 23 U.S.C. 139(l)(1). A claim seeking judicial review of the Federal agency action on the highway project will be barred unless the claim is filed on or before July 9, 2012.

FOR FURTHER INFORMATION CONTACT: For FHWA: Damaris Santiago, Environmental Engineer, FHWA Massachusetts Division Office, 55 Broadway, 10th Floor, Cambridge, MA 02142, (617) 494-2419, dsantiago@dot.gov. For Massachusetts Department of Transportation (MassDOT) Highway Division: Michael Furlong, Project Manager, MassDOT Highway Division, 10 Park Plaza, Room 4260, Boston, MA 02116, 9 a.m. to 5 p.m., (617) 973-8067, Michael.Furlong@state.ma.us.

SUPPLEMENTARY INFORMATION: Notice is hereby given that the FHWA has taken final agency action subject to 23 U.S.C. Sec. 139(l)(1) by issuing approval for the following bridge project in the Commonwealth of Massachusetts. The project proposes to replace the existing temporary bridge over the Weymouth Fore River in Quincy and Weymouth, Massachusetts that replaced a 1936 bascule bridge that was demolished in 2004. The proposed replacement Fore River Bridge will be a vertical lift movable bridge over a 225-foot navigable opening on the same alignment of the 1936 bridge. The replacement bridge will retain the same roadway capacity of two-lanes in each direction and include shoulders and sidewalks. The action by the Federal agency, and the law under which the action was taken, are described in the Environmental Assessment (EA), for which a Finding of No Significant Impact (FONSI) was issued on December 19, 2011 and other documents in the FHWA project records. The EA, FONSI and other project records are available by contacting FHWA or MassDOT at the addresses above. The FHWA EA and FONSI can be viewed and downloaded from the project Web site at http://www.massdotprojectsforeriverbridgeinfo/ or viewed at public libraries in the project area.

This notice applies to all Federal agency decisions as of the issuance date of this notice and all laws under which such actions were taken, including but not limited to:

1. National Environmental Policy Act of 1969.

Authority: 23 U.S.C. 139(l)(1).

Issued on: January 3, 2012.
Pamela S. Stephenson,
Division Administrator, Cambridge, MA.

[FR Doc. 2012-193 Filed 1-10-12; 8:45 am]

BILLING CODE 4910-RY-M